DEPARTMENT OF ENERGY

Federal Energy Regulatory Commission

Sunshine Act Meeting Notice

The following notice of meeting is published pursuant to section 3(a) of the government in the Sunshine Act (Pub. L. 94-409), 5 U.S.C. 552b:

AGENCY HOLDING MEETING: Federal Energy Regulatory Commission.

DATE AND TIME: October 16, 2025, 10:00 a.m.

PLACE: Room 2C, 888 First Street NE, Washington, DC 20426. Open to the public.

STATUS: Open.

MATTERS TO BE CONSIDERED: Agenda.

* Note—Items listed on the agenda may be deleted without further notice.

CONTACT PERSON FOR MORE INFORMATION: Debbie-Anne A. Reese, Secretary, Telephone (202) 502-8400.

For a recorded message listing items Stricken from or added to the meeting, call (202) 502-8627.

This is a list of matters to be considered by the Commission. It does not include a listing of all documents relevant to the items on the agenda. All public documents, however, may be viewed online at the Commission's website at https://elibrary.ferc.gov/eLibrary/search using the eLibrary link.

1129th—Meeting
[Open; October 16, 2025, 10:00 a.m.]
Item No. | Docket No. | Company
Administrative
A-1 | AD26-1-000 | Agency Administrative Matters.
A-2 | AD26-2-000 | Customer Matters, Reliability, Security and Market Operations.
Electric
E-1 | ER24-1915-002; ER24-1915-003 | New York Independent System Operator, Inc.
E-2 | EL23-29-000 | Invenergy Energy Management LLC v. PJM Interconnection, L.L.C.
E-3 | EL22-83-000 | Invenergy Transmission LLC v. Midcontinent Independent System Operator, Inc.
E-4 | EL24-92-002 | Cometa Energia, S.A. de C.V., /o/b/o., Energia Azteca X, S. de R.L. de C.V. v. California Independent System Operator Corporation.
E-5 | ER25-2385-000 | Duke Energy Carolinas, LLC and Duke Energy Progress, LLC.
E-6 | ER10-2126-011; EL26-2-000 | Idaho Power Company.
E-7 | ER10-2137-028 | Beech Ridge Energy LLC.
| ER14-2799-019 | Beech Ridge Energy Storage LLC.
| ER10-2138-029 | Grand Ridge Energy II LLC.
| ER10-2139-029 | Grand Ridge Energy III LLC.
| ER10-2140-028 | Grand Ridge Energy IV LLC.
| ER10-2141-028 | Grand Ridge Energy V LLC.
| ER14-2187-022 | Grand Ridge Energy Storage LLC.
| ER21-258-005 | Todd Solar LLC.
E-8 | ER25-634-001; ER25-634-000 | Manitowoc Public Utilities.
E-9 | ER25-3254-000 | Elk Creek Solar, LLC and Elk Creek Solar 2, LLC.
E-10 | ER25-3031-000 | Evergreen Wind Power II, LLC.
E-11 | ER20-2878-018; ER22-619-002; ER22-620-002 | Pacific Gas and Electric Company.
Gas
G-1 | RM96-1-044 | Standards for Business Practices of Interstate Natural Gas Pipelines.
G-2 | RP25-740-000 | Baltimore Gas and Electric Company and Washington Gas Light Company v. Columbia Gas Transmission, LLC.
Hydro
H-1 | P-13123-031 | Eagle Crest Energy Company.
Certificates
C-1 | CP25-37-000 | Transwestern Pipeline Company, LLC.
C-2 | CP25-11-001 | NGO Transmission, Inc.
C-3 | CP25-535-000 | Rover Pipeline LLC.

A free webcast of this event is available through the Commission's website. Anyone with internet access who desires to view this event can do so by navigating to www.ferc.gov' s Calendar of Events and locating this event in the Calendar. The Federal Energy Regulatory Commission provides technical support for the free webcasts. Please call (202) 502-8680 or email customer@ferc.gov if you have any questions.

Immediately following the conclusion of the Commission Meeting, a press briefing will be held in the Commission Meeting Room. Members of the public may view this briefing in the designated overflow room. This statement is intended to notify the public that the press briefings that follow Commission meetings may now be viewed remotely at Commission headquarters but will not be telecast.

Issued: October 9, 2025.
Debbie-Anne A. Reese,
Secretary.

[FR Doc. 2025-19581 Filed 10-15-25; 11:15 am]

BILLING CODE 6717-01-P